DEPARTMENT OF ENERGY

Office of Civilian Radioactive Waste Management; Safe Transportation and Emergency Response Training; Technical Assistance and Funding

AGENCY: Office of Civilian Radioactive Waste Management, Department of Energy.

ACTION: Notice extending comment period.

SUMMARY: On Monday, July 23, 2007, the Department of Energy (DOE) published a notice of revised proposed policy (72 FR 140) setting forth its revised plans for implementing Section 180(c) of the Nuclear Waste Policy Act of 1982 (the NWPA).

The notice requested comments on the provision of technical assistance and financial assistance for training of public safety officials to States and Indian Tribes through whose jurisdictions the DOE plans to transport spent nuclear fuel or high-level radioactive waste to a facility authorized under Subtitle A or C of the NWPA. The training is to cover safe, routine transport procedures and emergency response procedures as directed in the NWPA. The comment period for this notice of revised proposed policy was scheduled to close on October 22, 2007.

Today's notice announces a 90-day extension of the comment period on the revised proposed policy. The Department is taking this action in order to allow additional time for all interested parties to comment on the revised proposed policy.

DATES: Written comments should be mailed and electronic comments submitted to the Department and must be received on or before January 22, 2008.

ADDRESSES: Written comments should be directed to Ms. Corinne Macaluso, U.S. Department of Energy, c/o Patricia Temple, Bechtel SAIC Company, LLC, 955 N. L'Enfant Plaza, SW., Suite 8000, Washington, DC 20024. The revised proposed policy and electronic comments forms are also available at http://www.ocrwm.doe.gov. Fill out the form and click “submit” to send your comments in through the website. Persons submitting comments should include their name and address. Receipt of written comments in response to this notice will be acknowledged if a stamped, self-addressed postal card or envelope is enclosed. Electronic comments will receive an electronic notice of receipt.

FOR FURTHER INFORMATION CONTACT: For further information on the transportation of spent nuclear fuel and high-level radioactive waste under the Nuclear Waste Policy Act, please contact: Ms. Corinne Macaluso, Office of Logistics Management, Office of Civilian Radioactive Waste Management (RW-10), U.S. Department of Energy, 1000 Independence Avenue, SW., Washington, DC 20585, Telephone: (202) 586-2837.

General program information is available on the Office of Civilian Radioactive Waste Management Web site located at http://www.ocrwm.doe.gov.

Copies of comments received will be posted on the OCRWM Web site. Please allow up to two weeks after DOE receives comments to view them on the Web site.

DOE will consider all comments submitted by the closing date. Comments received after that date will be considered to the extent practicable. DOE requests that commenters pay particular attention to the questions at the end of the revised proposed policy.

Issued in Washington, DC, October 17, 2007.
Christopher A. Kouts,
Acting Principal Deputy Director, Office of Civilian Radioactive Waste Management.

[FR Doc. E7-20822 Filed 10-22-07; 8:45 am]

BILLING CODE 6450-01-P